DEPARTMENT OF THE INTERIOR

Bureau of Indian Affairs

Proclaiming Certain Lands as Reservation for the Jena Band of Choctaw Indians of Louisiana

AGENCY: Bureau of Indian Affairs, Interior.

ACTION: Notice of Reservation Proclamation.

SUMMARY: This notice informs the public that the Principal Deputy Assistant Secretary—Indian Affairs proclaimed approximately 63.52 acres, more or less, as the Jena Band of Choctaw Reservation for the Jena Band of Choctaw Indians of Louisiana (Jena Band).

FOR FURTHER INFORMATION CONTACT: Ben Burshia, Bureau of Indian Affairs, Division of Real Estate Services, Mail Stop 4639-MIB, 1849 C Street, NW., Washington, DC 20240, Telephone (202) 208-7737.

SUPPLEMENTARY INFORMATION: This notice is published in the exercise of authority delegated by the Secretary of the Interior to the Principal Deputy Assistant Secretary—Indian Affairs by part 209 of the Departmental Manual.

A proclamation was issued, according with section 7 of the Act of June 18, 1934 (48 Stat. 986; 25 U.S.C. 467), for the land described below. The land was proclaimed to be the Jena Band of Choctaw Reservation for the exclusive use of Indians on that reservation who are entitled to reside at the reservation by enrollment or tribal membership.

Jena Band of Choctaw Indian Reservation

Grant and LaSalle Parishes, Louisiana

Parcel 1: No. 5 Pollock, Grant Parish, consisting of 40.49 acres, more or less. A certain piece, parcel or lot of ground together with all improvements thereon, rights, ways and privileges thereunto belonging or in any way appertaining, being, lying and situated in the northeast quarter of the southwest quarter of Section 5, Township 5 North, Range 1 West, Grant Parish, Louisiana; being more particularly described as follows, to wit:

Commencing at a bolt and 3″ iron pipe marking the southeast corner of the northeast quarter of the southwest quarter, Section 5, Township 5 North, Range 1 West; said corner also being the POINT OF BEGINNING of the tract to be described; thence proceed North 89 degrees 38 minutes 42 seconds West, bearing assumed, a distance of 1328.33 feet to a ½″ iron rod; thence turn right and proceed North 00 degrees 20 minutes 34 seconds East, a distance of 1329.18 feet to a ½″ iron rod; thence turn right and proceed South 89 degrees 30 minutes 00 seconds East, a distance of 1329.11 feet to a 4″ x 4″ concrete post; thence turn right and proceed South 00 degrees 22 minutes 35 seconds West, a distance of 1325.81 feet to the POINT OF BEGINNING.

The above described tract contains 40.49 acres, more or less, and is more particularly indicated on Certificate of Survey by William J. Wood, Jr., dated February 8, 2001.

Parcel 2: No. 6 Hennigan/Jena, La Salle Parish consisting of 14.67 acres, more or less. A certain piece, parcel or lot of ground together with all improvements thereon, rights, ways and privileges thereunto belonging or in any way appertaining, being, lying and situated in the Southeast Quarter of the Northwest Quarter and the Northeast Quarter of the Northwest Quarter of Section 10, Township 8 North, Range 3 East, LaSalle Parish, Louisiana, as shown on a Certificate of Survey prepared by Clarence N. Bruce, N & A, Inc., under Project Number 236.289 dated December 26, 2000, and revised February 2, 2001, and more particularly described as follows, to wit:

Commencing at a two inch iron pipe at the Southwest corner of the Southeast Quarter of the Northwest Quarter, Section 10, Township 8 North, Range 3 East, LaSalle Parish, Louisiana, run north 00 degrees 17′40″ west with the west line of said Southeast Quarter of the Northwest Quarter a distance of 661.08 feet to a half inch rod and being the POINT OF BEGINNING of the herein described tract; thence continue north 00 degrees 17′40″ west with the west line of said Southeast Quarter of the Northwest Quarter and the Northeast Quarter of the Northwest Quarter a distance of 1058.83 feet to a half inch iron rod; thence run south 83 degrees 30′30″ east a distance of 24.11 feet to a half inch rod; thence run north 00 degrees 15′40″ east a distance of 151.58 feet to the south right-of-way line of U.S. Highway Number 84; thence run with said south right-of-way line of U.S. Highway Number 84, south 83 degrees 30′30″ east a distance of 390.57 feet to a half inch rod in the center line of Andra Drive; thence run with the center line of Andra Drive, south 04 degrees 32′51″ west a distance of 50.82 feet to a half inch iron rod; thence run south 04 degrees 44′11″ west a distance of 50 feet to a half inch iron rod; and thence run south 08 degrees 05′00″ west a distance of 406.97 feet to a half inch iron rod on the north line of said Southeast Quarter of the Northwest Quarter; thence run with the said north line of said Southeast Quarter of the Northwest Quarter south 89 degrees 50′11″ east a distance of 322.95 feet to a half inch iron rod; thence run south 00 degrees 17′42″ east a distance of 659.22 feet to a half inch rod; thence run north 89 degrees 59′43″ west a distance of 668.23 feet back to the POINT OF BEGINNING.

Parcel 3: No. 7 La Salle Parish consisting of 3.18 acres, more or less. A certain piece, parcel or lot of ground together with all improvements thereon, rights, ways and privileges thereunto belonging to or in any way appertaining, being, lying and situated in the Southeast Quarter of the Southwest Quarter of Section 5, Township 8 North, Range 3 East, LaSalle Parish, Louisiana, as shown on a Certificate of Survey prepared by Clarence N. Bruce, N & A, Inc., under Project Number 236.273 dated September 14, 2000, and more particularly described as follows, to wit:

Commencing at a railroad steel marking the Southeast corner of the Southeast Quarter of the Southwest Quarter of Section 5, Township 8 North, Range 3 West, LaSalle Parish, Louisiana, run north 01 degrees 54′45″ west with the east line of said Southeast Quarter of the Southwest Quarter a distance of 469.48 feet a half inch iron rod and the point of beginning of the herein described tract; thence run north 86 degrees 03′09″ west a distance of 477.55 feet to a half inch rod; thence run north 08 degrees 25′31″ east a distance of 309.68 feet to a cotton picker spindle in the center line of U.S. Highway Number 84; thence run with the center line of said Highway Number 84 south 85 degrees 02′38″ east 33.04 feet to a point; thence south 85 degrees 46′04″ east a distance of 89.56 feet to a point; thence south 85 degrees 58′22″ east a distance of 96.08 feet to a point; thence south 86 degrees 06′13″ east a distance of 203.06 feet to a cotton picker spindle on the east line of said Southeast Quarter of the Southwest Quarter; thence run south 01 degrees 54′45″ east with the east line of said Southeast Quarter of the Southwest Quarter a distance of 309.37 feet back to the POINT OF BEGINNING.

Parcel 4: No. 8 Grant Parish consisting of 1.89 acres more or less. A certain piece, parcel or lot of ground, together with all improvements thereon, rights, ways and privileges thereunto belonging or in any way appertaining, being, lying and situated in Lot 6 of Pine Heights Subdivision, located in the northwest quarter of Section 9, Township 5 North, Range 1 West, Grant Parish, Louisiana; being more particularly described as follows, to wit:

Commencing at a cotton picker spindle marking the northwest corner of Section 9, Township 5 North, Range 1 West; thence proceed North 89 degrees 16 minutes 40 seconds West, a distance of 83.41 feet to a point; thence turn left and proceed South 28 degrees 28 minutes 00 seconds East, a distance of 789.73 feet to a ½″ iron rod; thence turn right and proceed South 28 degrees 21 minutes 19 seconds East, a distance of 1200.00 feet to a ½″ iron rod; thence turn left and proceed North 61 degrees 38 minutes 41 seconds East, a distance of 130.59 feet to a ½″ iron rod located on the eastern required right of way line for LDOTD State Project Nos. 023-01-0049 and 023-02-0014, U.S. Hwy. 167; said point also being the POINT OF BEGINNING of the tract to be described; thence continue North 61 degrees 38 minutes 41 seconds East, a distance of 391.19 feet to a ½″ iron rod; thence turn right and proceed South 28 degrees 21 minutes 19 seconds East, a distance of 208.71 feet to a ½″ iron rod; thence turn right and proceed South 61 degrees 38 minutes 41 seconds West, a distance of 396.52 feet to a ½″ iron rod located on the eastern required right of way line for LDOTD State Project Nos. 023-01-0049 and 023-02-0014, U.S. Hwy. 167; thence turn right and proceed North 28 degrees 18 minutes 33 seconds West, along said required right of way line, a distance of 53.84 feet to a ½″ iron rod; thence turn right and proceed North 26 degrees 24 minutes 01 seconds West, along said required right of way line, a distance of 154.96 feet to the POINT OF BEGINNING.

The above described tract is more particularly indicated on Certificate of Survey by William J. Wood, Jr., dated September 10, 2003.

Parcel 5: No. 9 LaSalle Parish consisting of 2.00 acres, more or less. A certain piece, parcel or lot of ground together with all improvements thereon, rights, ways and privileges thereunto belonging or in any way appertaining, being, lying and situated in the Northwest Quarter of the Southeast Quarter of Section 7, Township 8 North, Range 4 East, LaSalle Parish, Louisiana, as shown on a Certificate of Survey prepared by Charles N. Bruce, N & A, Inc., under Project Number 236.298 dated February 5, 2001, and more particularly described as follows, to wit:

From the Southwest corner of the Northwest Quarter of the Southeast Quarter of Section 7, Township 8 North, Range 4 East, run north 00 degrees 17′41″ east a distance of 987.90 feet to the POINT OF BEGINNING; from the POINT OF BEGINNING run north 00 degrees 37′25″ east a distance of 295.38 feet to a point; thence run south 89 degrees 55′00″ east a distance of 295.11 feet to a point; thence run south 00 degrees 41′34″ west a distance of 294.68 feet to a point; thence run south 89 degrees 56′49″ west a distance of 294.76 feet back to the POINT OF BEGINNING.

Parcel 6: No. 10 LaSalle Parish consisting of 1.29 acres, more or less. A certain piece, parcel or lot of ground together with all improvements thereon, rights, ways and privileges thereunto belonging or in any way appertaining, being, lying and situated in the Southeast Quarter of the Northwest Quarter of Section 24, Township 8 North, Range 2 East, LaSalle Parish, Louisiana, as shown on a Certificate of Survey prepared by Clarence N. Bruce, N & A, Inc., dated February 5, 2001, and more particularly described as follows, to wit:

Commencing at the Northeast corner of the Southeast Quarter of the Northwest Quarter of Section 24, Township 8 North, Range 2 East, run south 00 degrees 28′ west a distance of 121.41 feet to a point; thence run south 89 degrees 52′32″ west a distance of 314.66 feet to the POINT OF BEGINNING; from the POINT OF BEGINNING run south 00 degrees 36′55″ east a distance of 272.90 feet to a point; thence run south 89 degrees 51′08″ west a distance of 205.87 feet to a point; thence run north 00 degrees 38′25″ west a distance of 272.97 feet to a point; thence run north 89 degrees 52′14″ east a distance of 205.99 feet back to the POINT OF BEGINNING.

The above-described lands contain a total of 63.52 acres, more or less, which are subject to all valid rights, reservations, rights-of-way, and easements of record.

This proclamation does not affect title to the land described above, nor does it affect any valid existing easements for public roads and highways, public utilities and for railroads and pipelines and any other rights-of-way or reservations of record.

Dated: March 20, 2007.
Michael D. Olsen,
Principal Deputy Assistant Secretary—Indian Affairs.

[FR Doc. E7-6049 Filed 3-30-07; 8:45 am]

BILLING CODE 4310-W7-P